DEPARTMENT OF THE INTERIOR

Fish and Wildlife Service

[Docket No. FWS-R5-NWRS-2022-0152; FF05R06000-234-FXRS12630500000; OMB Control Number 1018-New]

Agency Information Collection Activities; Northeast Region Hunter Participation Surveys

AGENCY: Fish and Wildlife Service, Interior.

ACTION: Notice of information collection; request for comment.

SUMMARY: In accordance with the Paperwork Reduction Act of 1995, we, the U.S. Fish and Wildlife Service (Service), are proposing a new information collection.

DATES: Interested persons are invited to submit comments on or before April 10, 2023.

ADDRESSES: Send your comments on the information collection request (ICR) by one of the following methods (please reference “1018-NER Hunter Surveys” in the subject line of your comments):

• Internet (preferred): https://www.regulations.gov. Follow the instructions for submitting comments on Docket No. FWS-R5-NWRS-2022-0152.

• Email: Info_Coll@fws.gov.

• U.S. mail: Service Information Collection Clearance Officer, U.S. Fish and Wildlife Service, 5275 Leesburg Pike, MS: PRB (JAO/3W), Falls Church, VA 22041-3803.

FOR FURTHER INFORMATION CONTACT: To request additional information about this ICR, contact Madonna L. Baucum, Service Information Collection Clearance Officer, by email at Info_Coll@fws.gov, or by telephone at (703) 358-2503. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the Paperwork Reduction Act (PRA, 44 U.S.C. 3501 et seq.) and its implementing regulations at 5 CFR 1320.8(d)(1), all information collections require approval under the PRA. We may not conduct or sponsor and you are not required to respond to a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The Service has overall Federal responsibility for managing the Nation's fish and wildlife resources. One of the Service's priorities is to provide the public with wildlife-based outdoor recreation opportunities on National Wildlife Refuges, National Fish Hatcheries, and other Service lands (collectively, refuges). These outdoor recreation opportunities include hunting, which is an important opportunity for people to connect with nature, harvest food, and assist the Service in managing wildlife populations.

The National Wildlife Refuge System Administration Act, as amended by the National Wildlife Refuge System Improvement Act (The Act; 16 U.S.C. 668dd et seq.) stipulates that refuges undergo a comprehensive conservation planning process that, among other things, must look at the compatibility of wildlife-dependent recreation (including hunting) on refuges. We will use the information from the proposed survey effort to inform planning on refuges as mandated by The Act.

Hunting on refuges is regulated by both State and Federal laws as well as through refuge-specific regulations. These refuge-specific regulations are made in accordance with hunt plans required to be developed for each refuge. These hunt plans outline things such as refuge-specific bag limits, season dates, areas open and closed to hunting, allowed hunting time, etc. The hunt plans are an important tool that refuges use to manage harvest, safety, and visitor experience.

Creating hunt plans relies on sound biological and social data. Understanding hunter experience, preference, and harvest helps refuge managers and planners tailor hunt plans to suit biological and visitor objectives and maintain a safe environment for hunters and non-hunting visitors.

We consulted with regional leadership staff from the Service's Northeast Region and refuge staff in the development of the proposed surveys. This interdisciplinary team identified data gaps needed to help inform future hunt plan development, identify safety concerns that need attention, and better understand hunter preference in order to improve visitor experience. The region, in consultation with the Service's Human Dimension Branch, developed the surveys. This effort identified critical data necessary for the management of hunting on refuges and revising and creating future hunt plans.

This information collection is for two survey instruments:

• Form 3-2557, “Hunter Satisfaction Survey”—The survey's purpose is to learn more about big game, small game, migratory bird, and upland game hunters and their overall experience hunting on national wildlife refuges and hatcheries. The survey includes questions about species harvested, methods for managing hunter numbers, safety concerns, hunter regulations, user conflicts, satisfaction, and motivations for hunting.

• Form 3-2558, “Spring Turkey Hunter Participation Survey”—The survey's purpose is to learn more about spring turkey hunters and their overall experience hunting on national wildlife refuges and hatcheries. The survey includes questions about species harvested, methods for managing hunter numbers, safety concerns, hunter regulations, user conflicts, satisfaction, and motivations for hunting.

Information from this collection will be used in the following primary ways:

• To inform the development or refinement of future refuge hunt plans or change the procedures for conducting hunting permit drawings or accepting applications, by providing information on hunter experience, preferences, harvest, and safety concerns to refuge managers and planners.

• To identify safety concerns that should be addressed outside of the hunt plan revision cycle.

• To identify refuge hunter preferences that can be addressed outside of the hunt plan revision cycle, in order to improve hunter experience and provide positive wildlife-based recreation experiences.

This survey will be conducted on an ongoing basis in order to track changes over time. Because this information is used to guide refuge management and planning efforts, it is important for the Service to understand the impact of management activities on refuge users. A longitudinal survey effort is necessary to track responses to changes in management.

Title of Collection: Northeast Region Hunter Participation Surveys.

OMB Control Number: 1018-New.

Form Numbers: 3-2557 and 3-2558.

Type of Review: New.

Respondents/Affected Public: Individuals.

Respondent's Obligation: Voluntary.

Frequency of Collection: On occasion.

Total Estimated Annual Nonhour Burden Cost: None.

Requirement | Average number of annual respondents | Average number of responses each | Average number of annual responses | Average completion time per response (minutes) | Estimated annual burden hours *
Form 3-2557, “Hunter Participation Survey”
Individuals | 50 | 1 | 50 | 20 | 17
Form 3-2558, “Spring Turkey Hunter Participation Survey”
Individuals | 50 | 1 | 50 | 10 | 8
Totals: | 100 |  | 100 |  | 25
* Rounded.

An agency may not conduct or sponsor and a person is not required to respond to a collection of information unless it displays a currently valid OMB control number.

The authority for this action is the Paperwork Reduction Act of 1995 (44 U.S.C. 3501 et seq.).

Madonna Baucum,
Information Collection Clearance Officer, U.S. Fish and Wildlife Service.

[FR Doc. 2023-02753 Filed 2-8-23; 8:45 am]

BILLING CODE 4333-15-P